DEPARTMENT OF VETERANS AFFAIRS

Privacy Act of 1974; Report of Matching Program

AGENCY: Department of Veterans Affairs.

ACTION: Notice of Computer Matching Program.

SUMMARY: Notice is hereby given that the Department of Veterans Affairs (VA), recipient agency, intends to continue a recurring computer-matching program with the Social Security Administration (SSA), source agency. The VA will match pension and parents' dependency and indemnity compensation (DIC) records with SSA records.

DATES: VA will file a report of the subject matching agreement with the Committee on Homeland Security and Governmental Affairs of the Senate; the Committee on Government Reform and Oversight of the House of Representatives; and the Office of Information and Regulatory Affairs, Office of Management and Budget (OMB). The matching program will be effective as indicated in this notice.

ADDRESSES: Written comments may be submitted by: mail or hand-delivery to Director, Regulations Management (00REG1), Department of Veterans Affairs, 810 Vermont Avenue, NW., Room 1068, Washington, DC 20420; fax to (202) 273-9026; or e-mail to VAregulations@mail.va.gov. All comments received will be available for public inspection in the Office of Regulation Policy and Management, Room 1063B, between the hours of 8 a.m. and 4:30 p.m., Monday through Friday (except holidays). Please call (202) 273-9515 for an appointment.

FOR FURTHER INFORMATION CONTACT: Pamela Liverman (212A), (757) 858-6148, ext. 107.

SUPPLEMENTARY INFORMATION: This information is required by 5 U.S.C. subsection 552a(e)(12), the Privacy Act of 1974. A copy of this notice has been provided to both Houses of Congress and OMB.

A. Participating Agencies

The U.S. Social Security Administration and the U.S. Department of Veterans Affairs.

B. Purpose of the Match

The purpose of the match is to compare income status as reported to VA with records maintained by SSA. VA plans to match records of beneficiaries who receive pension and DIC with the Master Beneficiary Record (MBR) and the Earnings Recording and Self-Employment Income System (MEF) maintained by SSA. This agreement reflects both agencies' responsibilities under the Privacy Act (5 U.S.C., Section 552a), and the regulations promulgated.

C. Authority for Conducting the Matching Program

The authority to conduct this match is 38 U.S.C. 5106.

D. Records To Be Matched

The VA records involved in the match are the VA system of records, Compensation, Pension, Education and Rehabilitation Records—VA (58 VA 21/22), first published at 41 FR 9294 (March 3, 1976), and last amended at 70 FR 34186 (June 13, 2005), with other amendments as cited therein.

The SSA records consist of the SSA Master Beneficiary Record (MBR), SSA/ORSIS, 60-0090. In the absence of MBR data, SSA will attempt to verify the social security number (SSN) in VA records using the SSA Earnings Recording and Self-Employment Income System (MEF), SSA/OEEAS, 60-0059.

E. Description of the Computer Matching Program

VA plans to match records of VA beneficiaries receiving income-dependent benefits with SSA records. VA will use this information to update the master records of VA beneficiaries receiving income dependent benefits and to adjust VA benefit payments as prescribed by law. The matching program will enable VA to ensure accurate reporting of income.

VA will electronically furnish a file containing the following data: SSN, Title II CAN, name, gender, date of birth, VA claim number, and other general identifiers. SSA will provide the necessary benefit information electronically from the files of the SSA Master Beneficiary Record (MBR), SSA/ORSIS, 60-0090, or in the absence of MBR data, SSA will attempt to verify the SSN in VA records using the SSA Earnings Recording and Self-Employment Income System (MEF), SSA/OEEAS, 60-0059.

F. Inclusive Date of the Matching Program

The match will start no sooner than 30 days after publication of this Notice in the Federal Register, or 40 days after copies of this Notice and the agreement of the parties is submitted to Congress and OMB, whichever is later, and end not more than 18 months after the agreement is properly implemented by the parties. The involved agencies' Data Integrity Boards (DIB) may extend this match for 12 months provided the agencies certify to their DIBs, within three months of the ending date of the original match, that the matching program will be conducted without change and that the matching program has been conducted in compliance with the original agreement.

This computer-matching program is subject to public comment and review by Congress and OMB. In accordance with 5 U.S.C. subsection 552a(o)(2) and (r), copies of the agreement are being sent to both Houses of Congress and to the Office of Management and Budget.

This notice is provided in accordance with the provisions of the Privacy Act of 1974 as amended by Public Law 100-503.

Approved: September 29, 2006.
Gordon H. Mansfield,
Deputy Secretary of Veterans Affairs.

[FR Doc. E6-17038 Filed 10-13-06; 8:45 am]

BILLING CODE 8320-01-P